FEDERAL COMMUNICATIONS COMMISSION

[DA 11-329]

Emergency Access Advisory Committee; Announcement of Date of Next Meeting

AGENCY: Federal Communications Commission.

ACTION: Notice.

SUMMARY: This document announces the date of the Emergency Access Advisory Committee's (“Committee or EAAC”) next meeting. The Committee meeting will continue discussions on questions and target populations for the national survey of persons with disabilities and will have a briefing on non-voice emergency services.

DATES: The Committee's next meeting will take place on Friday, March 11, 2011, 10:30 a.m. to 4:30 p.m. (EST), at Commission Headquarters.

ADDRESSES: Federal Communications Commission, 445 12th Street, SW., Washington, DC 20554.

FOR FURTHER INFORMATION CONTACT: Cheryl King, Consumer and Governmental Affairs Bureau, Federal Communications Commission, 202-418-2284 (voice) or 202-418-0416 (TTY), Cheryl.King@fcc.gov (e-mail) or Patrick Donovan, Public Safety and Homeland Security Bureau, Federal Communications Commission, 202-418-2413, Patrick.Donovan@fcc.gov (e-mail).

SUPPLEMENTARY INFORMATION: On December 7, 2010, in document DA 10-2318, Chairman Julius Genachowski announced the establishment, and appointment of members and Co-Chairpersons, of the EAAC, an advisory committee required by the Twenty-first Century Communications and Video Accessibility Act of 2010, Public Law 111-260 (CVAA), which directs that an advisory committee be established, for the purpose of achieving equal access to emergency services by individuals with disabilities as part of our nation's migration to a national Internet protocol-enabled emergency network, also known as the next generation 9-1-1 system (“NG9-1-1”).

The purpose of the EAAC is to determine the most effective and efficient technologies and methods by which to enable access to NG9-1-1 emergency services by individuals with disabilities. In order to fulfill this mission, the CVAA directs that within one year after the EAAC's members are appointed, the Committee shall conduct a national survey, with the input of groups represented by the Committee's membership, after which the Committee shall develop and submit to the Commission recommendations to implement such technologies and methods.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer and Governmental Affairs Bureau at 202-418-0530 (voice), 202-418-0432 (TTY). To request materials in accessible formats for people with disabilities (Braille, large print, electronic files, audio format), send an e-mail to fcc504@fcc.gov or call the Consumer and Governmental Affairs Bureau at 202-418-0530 (voice), 202-418-0432 (TTY).

Federal Communications Commission.
Karen Peltz Strauss,
Deputy Chief, Consumer and Governmental Affairs Bureau.

[FR Doc. 2011-4786 Filed 3-2-11; 8:45 am]

BILLING CODE 6712-01-P